INTERNATIONAL TRADE COMMISSION

Sunshine Act Meeting

Agency Holding the Meeting: United States International Trade Commission.

Time and Date: October 5, 2000 at 11:00 a.m.

Place: Room 101, 500 E Street SW., Washington, DC 20436, Telephone: (202) 205-2000.

Status: Open to the public.

Matters to be Considered

1. Agenda for future meeting: none.

2. Minutes.

3. Ratification List.

4. Inv. Nos. 303-TA-21 and 731-TA-451, 461, and 519 (Review)(Gray Portland Cement and Cement Clinker from Japan, Mexico, and Venezuela)—briefing and vote. (The Commission is currently scheduled to transmit its determination and Commissioners' opinions to the Secretary of Commerce on October 20, 2000.)

5. Outstanding action jackets: (1.) Document No. GC-00-070: Approval of final disposition of investigation in Inv. No. 337-TA-395 (Certain EPROM, EEPROM, Flash Memory, and Flash MicrocontrollerSemiconductor Devices and Products Containing Same).

In accordance with Commission policy, subject matter listed above, not disposed of at the scheduled meeting, may be carried over to the agenda of the following meeting.

Issued: September 27, 2000.
By order of the Commission.
Donna R. Koehnke,
Secretary.

[FR Doc. 00-25174 Filed 9-27-00; 1:45 pm]

BILLING CODE 7020-02-P